DEPARTMENT OF HEALTH AND HUMAN SERVICES

National Institutes of Health

Center for Scientific Review; Amended Notice of Meeting

Notice is hereby given of a change in the meeting of the Neurogenesis and Cell Fate Study Section, February 18, 2016, 08:00 a.m. to February 19, 2016, 02:00 p.m., Hotel Kabuki, 1625 Post Street, San Francisco, CA, 94115 which was published in the Federal Register on January 26, 2016, 81 FR 4316-4317.

The meeting will be held on February 18, 2016 from 8:00 a.m.-8:00 p.m. The meeting location remains the same. The meeting is closed to the public.

Dated: February 3, 2016.
Natasha M. Copeland,
Program Analyst, Office of Federal Advisory Committee Policy.

[FR Doc. 2016-02455 Filed 2-8-16; 8:45 am]

BILLING CODE 4140-01-P